DEPARTMENT OF HEALTH AND HUMAN SERVICES

Centers for Disease Control and Prevention

Informational Meeting Concerning Compliance With the Centers for Disease Control and Prevention's Import Permit Program; Public Webcast

AGENCY: Centers for Disease Control and Prevention (CDC), Department of Health and Human Services (HHS).

ACTION: Notice of public webcast.

SUMMARY: The Centers for Disease Control and Prevention (CDC), Department of Health and Human Services (HHS) announces a public webcast that will address the new import permit regulations for infectious biological agents, standards, and vectors; import permit inspections; and import permit exemptions. The purpose of this notice is to inform all interested parties, including those individuals and entities already possessing an import permit of the webcast.

DATES: The webcast will be held on Friday, July 12, 2013 from 1 p.m. to 5 p.m. EST. Those wishing to join the webcast are encouraged to register by July 5, 2013. Registration instructions are found on the HHS/CDC's Import Permit Program Web site, http://www.cdc.gov/od/eaipp/index.htm.

ADDRESSES: The webcast will be broadcast from the Centers for Disease Control and Prevention, 1600 Clifton Road NE., Atlanta, Georgia 30329.

FOR FURTHER INFORMATION CONTACT: Von McClee, Division of Select Agents and Toxins, Office of Public Health Preparedness and Response, Centers for Disease Control and Prevention, 1600 Clifton Road NE., MS A-46, Atlanta, GA 30333; phone: 404-718-2000; email: lrsat@cdc.gov.

SUPPLEMENTARY INFORMATION: On February 4, 2013, the Centers for Disease Control and Prevention (CDC) in the Department of Health and Human Services (HHS) published a final rule (78 FR 7674) amending etiological importation regulations to (1) clarify import permit regulatory definitions, (2) increase oversight by implementing inspections, (3) address exemptions and (4) describe the appeal process.

This webcast is an opportunity for the regulated community (i.e., academic institutions and biomedical centers, commercial manufacturing facilities, federal, state, and local laboratories, including clinical and diagnostic laboratories, research facilities, exhibition facilities, and educational facilities) and other interested individuals to obtain specific regulatory guidance and information regarding the newly amended regulations. The webcast will also provide assistance to those interested in applying for an etiological agent import permit. Representatives from HHS/CDC will be present during the webcast to address questions and concerns from the web participants.

Topics to be discussed during the webcast include: The new import permit regulations for infectious biological agents, standards, and vectors; import permit inspections; and import permit exemptions. A question and answer session will take place after each topic.

Individuals wishing to join the webcast are encouraged to register by July 5, 2013. Instructions for registration are found on the HHS/CDC's Import Permit Program Web site, http://www.cdc.gov/od/eaipp/index.htm. This is a webcast only event and there will be no on-site participation at the HHS/CDC broadcast facility. In-person participation cannot be accommodated. Closed-captioning video of the webcast will be available at http://www.cdc.gov/od/eaipp/index.htm after the webcast.

Dated: May 14, 2013.
Tanja Popovic,
Deputy Associate Director for Science, Centers for Disease Control and Prevention.

[FR Doc. 2013-11895 Filed 5-17-13; 8:45 am]

BILLING CODE 4163-18-P